DEPARTMENT OF THE INTERIOR

Fish and Wildlife Service

Notice of Withdrawal of the Little Darby National Wildlife Refuge Proposal and Availability of the Little Darby Creek Conservation Through Local Initiatives Final Report

AGENCY: Fish and Wildlife Service, Interior.

SUMMARY: This notice advises the public that the U.S. Fish & Wildlife Service (Service) is withdrawing its proposal to establish the Little Darby National Wildlife Refuge in Madison and Union counties in Ohio. A concluding Final Report provides tools that could be useful in pursuing a local conservation initiative.

DATES: This action will become effective with this notice. The Service notified the public of the decision to withdraw the proposal in March; formal notice of the decision is being made concurrent with the availability of the Final Report. Copies of the Final Report are available on the Service's Web site: http//midwest.fws.gov/planning/Idarbytop.htm, or by writing to the address listed below.

FOR FURTHER INFORMATION CONTACT: Tom Larson, Chief of Ascertainment and Planning, U.S. Fish & Wildlife Service, Bishop Henry Whipple Federal Building, 1 Federal Drive, Fort Snelling, MN 55111. Telephone 612/713-5430.

SUPPLEMENTARY INFORMATION: There were both supporters and opponents to the proposal to create a new national wildlife refuge in south central Ohio, but the community consistently expressed support for the conservation of agricultural and natural resource areas. In withdrawing the proposal to establish a refuge, the Service is supporting interest in locally-driven conservation efforts. The Final Report includes an overview of the refuge proposal, a brief history of the area, description of the natural resource values of the Little Darby Creek Watershed, information on local perceptions and expectations related to conservation, and information on resources available for local conservation initiatives. The Report reiterates the Service's belief in preserving the watershed's resource values.

Dated: August 14, 2002.
William F. Hartwig,
Regional Director.

[FR Doc. 02-25102 Filed 10-2-02; 8:45 am]

BILLING CODE 4310-55-M